DEPARTMENT OF THE INTERIOR

National Park Service

[NPS-MWR-WICR-23043; PS.SMWLA0068.00.1]

Minor Boundary Revision at Wilson's Creek National Battlefield

AGENCY: National Park Service, Interior.

ACTION: Notification of boundary revision.

SUMMARY: The boundary of Wilson's Creek National Battlefield is modified to include 40 acres of land located in Christian County, Missouri, immediately adjacent to the boundary of the national battlefield. The United States will accept a donation from Civil War Trust containing 40 acres of land.

DATES: The effective date of this boundary revision is June 14, 2017.

ADDRESSES: The map depicting this boundary revision is available for inspection at the following locations: National Park Service, Land Resources Program Center, Midwest Region, 601 Riverfront Drive, Omaha, Nebraska 68102 and National Park Service, Department of the Interior, 1849 C Street NW., Washington, DC 20240.

FOR FURTHER INFORMATION CONTACT: Chief Realty Officer Daniel L. Betts, National Park Service, Land Resources Program Center, Midwest Region, 601 Riverfront Drive, Omaha, Nebraska 68102, telephone (402) 661-1780.

SUPPLEMENTARY INFORMATION: Notice is hereby given that, pursuant to 54 U.S.C. 100506(c), the boundary of Wilson's Creek National Battlefield is modified to include 40 acres of adjacent land identified as Tract 01-147. The boundary revision is depicted on Map No. 410/133,135, dated June 2016.

Specifically, 54 U.S.C. 100506(c) provides that, after notifying the House Committee on Natural Resources and the Senate Committee on Energy and Natural Resources, the Secretary of the Interior is authorized to make this boundary revision upon publication of notice in the Federal Register. The Committees have been notified of this boundary revision. This boundary revision and subsequent acquisition will contribute to the preservation, protection, and enhancement of the national battlefield.

Dated: March 22, 2017.
Cameron H. Sholly,
Regional Director, Midwest Region.

[FR Doc. 2017-12263 Filed 6-13-17; 8:45 am]

BILLING CODE 4312-52-P